DEPARTMENT OF THE INTERIOR

Fish and Wildlife Service

[Docket No. FWS-R6-ES-2019-0010; FF06E00000 212 FXES11140600000]

Incidental Take Permit Application; Habitat Conservation Plan and Categorical Exclusion for the Threatened Grizzly Bear; Flathead, Glacier, Lincoln, and Toole Counties, Montana

AGENCY: Fish and Wildlife Service, Interior.

ACTION: Notice of availability of documents; request for comments.

SUMMARY: We, the U.S. Fish and Wildlife Service, announce the availability of documents related to an application for an incidental take permit (ITP) under the Endangered Species Act. BNSF Railway (BNSF) has applied for an ITP, which, if granted, would authorize take of the federally threatened grizzly bear that is likely to occur incidental to railroad operations and maintenance. The documents available for review and comment are the applicant's habitat conservation plan, which is part of the ITP application, and our draft environmental action statement and low-effect screening form, which support a categorical exclusion under the National Environmental Policy Act. We invite comments from the public and Federal, Tribal, State, and local governments.

DATES: We will accept comments received or postmarked on or before February 11, 2021. Comments submitted online at Regulations.gov (see ADDRESSES) must be received by 11:59 p.m. Eastern Time on the closing date.

ADDRESSES: Obtaining Documents: The documents this notice announces, as well as any comments and other materials that we receive, will be available for public inspection online in Docket No. FWS-R6-ES-2019-0010 at http://www.regulations.gov.

Submitting Comments: You may submit comments by one of the following methods:

• Online: http://www.regulations.gov. Follow the instructions for submitting comments on Docket No. FWS-R6-ES-2019-0010.

• U.S. mail: Public Comments Processing, Attn: Docket No. FWS-R6-ES-2019-0010; U.S. Fish and Wildlife Service Headquarters, MS: PERMA; 5275 Leesburg Pike; Falls Church, VA 22041-3803.

We request that you send comments by only the methods described above.

FOR FURTHER INFORMATION CONTACT: Ben Conard, by phone at 406-758-6882, by email at Ben_Conard@fws.gov, or via the Federal Relay Service at 800-877-8339.

SUPPLEMENTARY INFORMATION: We, the U.S. Fish and Wildlife Service (Service), have received an application from BNSF Railway (BNSF) for a 7-year incidental take permit (ITP) under the Endangered Species Act of 1973, as amended (ESA; 16 U.S.C. 1531 et seq.). The application addresses the potential for take of the federally threatened grizzly bear (Ursus arctos horribilis) that is likely to occur incidental to ongoing operations and maintenance of approximately 206 miles of railroad.

The documents available for review and comment are the applicant's habitat conservation plan (HCP), which is part of the ITP application, and our draft environmental action statement and low-effect screening form. These documents helped inform our conclusion that the activities proposed by the permit application will have a low effect on the species and the human environment. Accordingly, the HCP qualifies for a categorical exclusion under the National Environmental Policy Act of 1969 (NEPA; 42 U.S.C. 4321 et seq.).

Applicant's Habitat Conservation Plan

BNSF has submitted a low-effect HCP in support of an application for an ITP to address take of the species that is likely to occur as the result of BNSF's ongoing operations and management of approximately 206 miles of railway between Trego, Montana, and Shelby, Montana. The requested permit duration is for 7 years from permit issuance. The railway is within grizzly bear habitat in the Northern Continental Divide Ecosystem grizzly bear recovery zone. The biological goals and objectives are to reduce attractants and deter grizzly bears from entering high-risk areas of railway and to contribute to the recovery of the grizzly bear population by offsetting incidental take by reducing other sources of human-caused mortality. The proposed conservation program includes implementing measures to reduce attractants, providing financial support to Montana Fish, Wildlife, and Parks and the Blackfeet Indian Nation for reducing human/grizzly bear conflicts through increased personnel, equipment, and education.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.32) and NEPA (42 U.S.C. 4321 et seq.) and its implementing regulations (40 CFR 1506.6 and 43 CFR 46.305).

Stephen Small,
Assistant Regional Director, Ecological Services, Mountain-Prairie Region.

[FR Doc. 2021-00426 Filed 1-11-21; 8:45 am]

BILLING CODE 4333-15-P